DEPARTMENT OF LABOR

Employment and Training Administration

[TA-W-74,545; TA-W-74,545A]

HAVI Logistics, North America a Subsidiary of HAVI Group, LP Including On-Site Leased Workers of Express Personnel Services and the La Salle Network, Bloomingdale, IL; Havi Logistics, North America, Lisle, IL; Amended Certification Regarding Eligibility To Apply for Worker Adjustment Assistance

In accordance with Section 223 of the Trade Act of 1974, as amended (“Act”), 19 U.S.C. 2273, the Department of Labor issued a Certification of Eligibility to Apply for Worker Adjustment Assistance on September 3, 2010, applicable to workers of HAVI Logistics, North America, a subsidiary of HAVI Group, LP, including on-site leased workers of Express Personnel Services and The La Salle Network, Bloomingdale, Illinois. The Notice was published in the Federal Register on September 21, 2010 (75 FR 57516). The workers are engaged in activities related to the supply of food distribution services.

During the course of an investigation of another petition, the Department obtained information that shows that HAVI Logistics, North America, Lisle, Illinois is an auxiliary facility operating in conjunction with the Bloomingdale, Indiana facility.

Accordingly, the Department is amending this certification to properly reflect this matter.

The intent of the Department's certification is to include all workers of the subject firm who were adversely affected by the shift of food distribution services to Japan and Russia.

The amended notice applicable to TA-W-74,545 is hereby issued as follows:

All workers of HAVI Logistics, North America, a subsidiary of HAVI Group, LP, including on-site leased workers of Express Personnel Services and The La Salle Network, Bloomingdale, Illinois (TA-W-74,545) and all workers of HAVI Logistics, North America, Lisle, Illinois (TA-W-74,545A), who became totally or partially separated from employment on or after August 11, 2009, through September 3, 2012, and all workers in the group threatened with total or partial separation from employment on date of certification through two years from the date of certification, are eligible to apply for adjustment assistance under Chapter 2 of Title II of the Trade Act of 1974, as amended.

Signed in Washington, DC, this 19th day of November 2010.
Del Min Amy Chen,
Certifying Officer, Office of Trade Adjustment Assistance.

[FR Doc. 2010-30538 Filed 12-6-10; 8:45 am]

BILLING CODE 4510-FN-P